DEPARTMENT OF LABOR

Employment and Training Administration

Job Training Partnership Act, Title III, Demonstration Program: Comprehensive Incumbent/Dislocated Worker Retraining Demonstration Program

AGENCY: Employment and Training Administration, Labor.

ACTION: Notice of availability of funds and solicitation for grant applications (SGAs).

This notice contains all of the necessary information and forms need to apply for grant funding.

SUMMARY: The U.S. Department of Labor (DOL), Employment and Training Administration (ETA), announces a demonstration program to test the ability of the workforce development system to create projects or industry-led consortia for the purpose of upgrading current workers, designing or adapting training curricula in skills shortage occupational areas, or in regionally important business/industry areas including manufacturing and machining, and specialized industrial areas such as plastics, telecommunications and the environment, and to recruit/retrain workers in these occupations. The dislocated and/or incumbent workers who will be assisted by these efforts include specific groups such as agricultural workers, low skilled workers, and those needing assistance in overcoming barriers to employment. These barriers to employment may be caused by living in rural communities, having limited options for transportation to work, having inadequate or obsolete skills or having skills in declining occupations. The focus of these efforts will be on skills training in skills shortage occupations including welding and metals, new and growing occupations in technological fields such as information technology, telecommunications, and other fields in which technology skills are critical parts of the jobs emerging in their regional labor markets. Any consortia established as a result of this competition would also be expected to enhance the strategic planning efforts and policy efforts of local boards under the Workforce Investment Act in these areas.

DATES: The closing date for receipt of applications is Thursday, April 27, 2000. Applications must be received by 4 p.m. eastern standard time. No exceptions to the mailing and hand-delivery conditions set forth in this notice will be granted. Applications that do not meet the conditions set forth in this notice will not be considered. Telefacsimile (FAX) applications will not be honored.

ADDRESSES: Applications must be mailed or hand-delivered to: U.S. Department of Labor, Employment and Training Administration, Division of Federal Assistance, Attention: Marian G. Floyd, Reference: SGA/DFA 00-103; 200 Constitution Avenue, N.W., Room S-4203, Washington, DC 20210.

Hand-Delivered Proposals. Proposals should be mailed at least five (5) days prior to the closing date. However, if proposals are hand delivered, they must be received at the designated address by 4 p.m., Eastern Time on Thursday, April 27, 2000. All overnight mail will be considered to be hand-delivered and must be received at the designated place by the specified closing date and time. Telegraphed, electronic, or faxed proposals will not be honored. Failure to adhere to these instructions will be a basis for determination of nonresponsiveness.

Late Proposals. A proposal received at the office designated in the solicitation after the exact time specified for receipt will not be considered unless it is received before the award is made and was either:

(1) Sent by U.S. Postal Service Express Mail Next Day Service—Post Office to Addressee, not later than 5 p.m. at the place of mailing two working days prior to the date specified for receipt of the proposals. The term “working days” excludes weekends and the U.S. Federal holidays.

(2) Sent by U.S. Postal Service registered or certified mail not later than the fifth calendar day before the date specified for receipt of application (e.g., an offer submitted in response to a solicitation requiring receipt of applications by the 20th of the month must be mailed by the 15th). The only acceptable evidence to establish the date of mailing of a late proposal sent either by U.S. Postal Service registered or certified mail is the U.S. postmark both on the envelope or wrapper and on the original receipt from the U.S. Postal Service. Both postmarks must show a legible date or the proposal shall be processed as if mailed late. “Post-mark” means a printed, stamped, or otherwise placed impression (exclusive of a postage meter machine impression) that is readily identifiable without further action as having been supplied and affixed by an employee of the U.S. Postal Service on the date of mailing. Therefore, offerors should request the postal clerk to place a legible hand cancellation “bull's eye” postmark on both the receipt and the envelope or wrapper. Both postmarks must show a legible date, or the application shall be processed as though it had been mailed late.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Fax questions to Marian G. Floyd, Division of Federal Assistance at (202) 219-8739 (this is not a toll-free number). All inquiries sent via fax should include the SGA /DFA-00-103 and contact name, fax and phone number. This solicitation will also be published on the Internet on the Employment and Training Administration's (ETA) Home Page at http://www.doleta.gov. Award notifications will also be published on the ETA Home Page.

SUPPLEMENTARY INFORMATION: ETA is soliciting proposals on a competitive basis for comprehensive incumbent and dislocated worker retraining program. It is envisioned that the upgrading of current workers, designing or adapting training curricula in skills shortage occupational areas, or in regionally important business/industry areas including manufacturing and machining, and specialized industrial areas.

This announcement consist of six (6) parts.

(1) Part I—Background

(2) Part II—Eligible Applicants and Application Process

(3) Part III—Proposal Submission

(4) Part IV—Statement of Work/Government's Requirement

(5) Part V—Rating Criteria & Award Selection

(6) Part VI—Monitoring, Reporting & Evaluation Requirements

Part I. Background

A. Authority

Section 323(a)(6) of JTPA (29 U.S.C. 1662b) authorizes the use for demonstration programs of funds reserved under Section 302 of JTPA (29 U.S.C. 1652) and provided by the Secretary for that purpose under Section 322 of JTPA (29 U.S.C. 1662a). Demonstration program grantees must comply with all applicable federal and state laws and regulations in setting up and carrying out their programs.

B. Purpose

During periods of economic expansion, reports of robust growth often overshadow news about pockets of persistent worker dislocation. Each year, there are over 3.3 million people laid off from their jobs, with many of these individuals served by federal, State and local career services. At the same time, the demand to create a better educated, higher skilled labor force for the 21st Century continues to rise. With 70% of the workforce for the year 2020 already in place, many observers have recognized that workplace learning is a priority investment for businesses, as well as incumbent workers. With real wages and productivity on the decline in some rural and urban areas, partnerships forged by employers, labor, unions, community colleges, technology centers and Government provide both the support and the expertise to train and retrain workers.

Because technology and manufacturing are cornerstones of the economy, efforts to provide the highest levels of quality in meeting the training needs of workers are essential both to step-up productivity and to increase industrial competitiveness worldwide. Training machinists and engineers to replace workers who have retired or will be retiring from U.S. manufacturing industries during the next several years has created severe problems for both the industry and employed workers unable to move into more complex, skilled professions. Subsequently, expanding the manufacturing base is a key factor in moving people from poverty into skilled professions where rising standards of living will directly impact regional economies.

Building the capacity for workers to continually develop skill sets and to apply new learning to job specific tasks is a fundamental strategy in an era of global competition, trade deregulation, and rapid technological change. Developing critical thinking and problem solving abilities, while improving fluency in reading, writing, English as a Second Language and mathematics are requirements of today's high performance workplace. Bureau of Labor Statistics data report occupations that require at least an associates degree will account for 40 percent of all job growth out to 2008, compared to a one-quarter share of all jobs that existed in 1998. In a knowledge-driven economy, investing in worker skill advancement may be as important to competitiveness as investments in advanced machinery or technology or even the rise and fall interest rates. Greater schooling and training lead to higher wage rates. In fact, of all the factors studied, the wage premium for knowledge is highest. On average, wages go up about 10 percent to 15 percent as knowledge requirements go up one level and all other factors of the job are fixed.

In the Report on the American Workforce, 1999, the Secretary of Labor emphasized that “Workers must enter the workforce with strong basic and job-related skills, and they must be prepared to learn new skills continuously in their places of employment, over the course of their lives.” Instruction for adult literacy and numeracy, and the integration of knowledge from computer-based training are essential elements of successful business practice that cut across geographic regions or employment sectors. Moreover, using community-based expertise to provide agricultural and business training in rural areas appears to parallel efforts in urban communities to move people from poverty into the skilled labor market by targeting funds for training in local skill shortage occupations. Furthermore, by fostering training consortia, the vast majority of the costs associated with training incumbent workers by companies involved in the consortium would be fully paid by the companies themselves.

A $7.2 million dislocated and incumbent worker demonstration program will support the creation of projects to respond to employer-identified skill shortages in regional labor markets. This program will build on the Department's June 1998 $7.7 million dislocated worker technology demonstration and the new $9.5 million manufacturing technology demonstration awarded in June 1999. In part, it will support the creation of industry-led projects which can design or adapt training curricula in skill shortage occupational areas or in key regional businesses.

Part II. Eligible Applicants and the Application Process

1. Eligible Applicants

Any organization capable of fulfilling the terms and conditions of this solicitation may apply. This is a risk free Federal program; therefore, all for profit organizations that apply will not be able to receive a fee if awarded a grant. All participants in projects funded under this demonstration program must be either:

(a) Eligible dislocated workers as defined at JTPA Section 301(a)(1), and 314(h)(1) of the Job Training Partnership Act. These sections of the law may be viewed at http://doleta.gov/regs/statutes/jtpalaw.htm. Proposed projects may target subgroups of the eligible population based on factors such as (but not limited to) occupation, industry, nature of dislocation, and reason for unemployment. Note: Individuals whose eligibility is based upon their status as long-term unemployed (Section 301(a)(1)(C)) must have a demonstrated attachment to the labor force; or

(b) Incumbent workers. These are currently-employed workers whose employers have determined that the workers require training in order to help keep their firms competitive and the subject workers employed, avert layoffs, upgrade workers' skills, increase wages earned by employees and/or keep workers skills competitive. Such training would support further job retention and career development for improved economic self-sufficiency for employed workers, especially those most vulnerable to job loss, and increase the capability of the employing firm(s) to access and retain skilled workers.

2. Allowable Activities

Funds provided through this demonstration may be used only to provide services of the types described at Section 314(c) and (d) of JTPA. Supportive services may be provided when they are necessary to enable an individual who is eligible for training but cannot afford to pay for such supportive services, to participate in the training program. (Use ETA's web site referenced above to view.)

Grant funds may be used to reimburse employers for extraordinary costs associated with on-the-job training of program participants, in accordance with the provisions of 20 CFR 627.240. In addition to the limitations and requirements provided in JTPA, particularly at Part C of Title I, prospective applicants should be aware that grant funds may not be used for the following purposes:

(a) for training that an employer is in a position to provide and would have provided in the absence of the requested grant;

(b) to pay salaries for program participants; and

(c) for acquisition of production equipment. Applicants may budget limited amounts of grant funds to work with technical experts or consultants to provide advice and develop more complete project plans after a grant award, however, the level of detail in the project plan may affect the amount of funding provided.

Grant activities may include:

(a) development, testing and initial application of curricula focused on intensive, short-term training to get participants into productive, high demand employment as quickly as possible;

(b) working with employers to develop and apply worksite-based learning strategies that utilize cutting-edge technology and equipment;

(c) development of employer-based training programs that will take advantage of opportunities created by employers' needs for workers with new skills;

(d) development and initial application of contextual learning opportunities for participants to learn occupational theory in a classroom setting while applying that learning in an on-the-job setting;

(e) use of curriculum and skills training programs that are designed to impart learning to meet employer-specified or industry specific skill standards or certification requirements;

(f) convening of an Employer Advisory Board to identify skills gaps of job applicants and present workers affecting the ability of the employer to offer a competitive product and develop a strategy for retraining;

(g) innovative linkage and collaboration between employers and the local JTPA Substate Grantee and/or One-Stop/Career Center system to ensure a steady supply of targeted workers.

The above are illustrative examples and are not intended to be an exhaustive listing of possible demonstration project designs or approaches which may achieve the purpose of this solicitation. However, successful applicants must demonstrate the direct involvement by employers experiencing skill shortages in the design and operation of the project as well as provide substantive documentation about the existence of skill shortages for the industry or occupations to be targeted by the proposed project. Documentation should include a description of the employer involvement anticipated in the project. An employer advisory committee may be one means of accomplishing employer involvement.

3. Coordination

In order to maximize the use of public resources and avoid duplication of effort, applicants will coordinate the delivery of services under this demonstration with the delivery of services under other programs (public or private), available to all or part of the target group. Projects linking or collaborating with an existing USDOL funded One-Stop/Career Center initiative and/or local JTPA Substate Grantee located within a project area fulfill this requirement. The use of Pell Grants for eligible workers or the use of State training or education funds provided for dislocated workers or certain types of employers should also be addressed in the application. Where appropriate, partnerships should also include trade unions, manufacturing extension programs, economic development organizations, training institutions, and other local stakeholders. Any efforts proposed in isolation will not have the maximum impact on building capacity within that region or industry and are not likely to be funded.

4. Grant Awards

It is anticipated that $7.2 million will be available to fund these projects. Approximately six to ten grants will be awarded, with an estimated range of $200,000 to $3 million per grant, with no individual grant exceeding $3 million.

5. Period of Performance

The period of performance shall be 24 months from the date of execution by the Government.

6. Option To Extend

DOL may elect to exercise its option to extend these grants for an additional one (1) or two (2) years of operation, based on the availability of demonstration funding under the Workforce Investment Act, successful program operation, and the determination that a grantee's initial program findings could further inform the workforce development system through refinement of the present demonstration.

Part III. Proposal Submission

A. Contents

Applicants must submit four (4) copies of their proposal, with original signatures. The proposal must consist of two (2) distinct parts, Part I and Part II.

1. Financial Application

Part I of the proposal shall contain the Standard Form SF424, “Application for Federal Assistance” (Appendix # A) and Budget Information Form (Appendix # B). The Catalog of Federal Domestic Assistance number is 17.246. Applicants shall indicate on the SF424 the organization's IRS status, if applicable. According to the Lobbying Disclosure Act of 1995, section 18, an organization described in section 501(c)(4) of the Internal Revenue Code of 1986 which engages in lobbying activities shall not be eligible for the receipt of federal funds constituting an award, grant, or loan. The individual signing the SF424 on behalf of the applicant must represent the responsible financial and administrative entity for a grant should that application result in an award.

The budget must include on separate pages detailed breakouts of each proposed budget line item found in the budget information sheet including detailed administrative costs and costs for one or more of the following categories as applicable: basic readjustment services, supportive services, and retraining services. The Salaries line item shall be used to document the project staffing plan by providing a detailed listing of each staff position providing more than .05 FTE support to the project, by annual salary, number of months assigned to demonstration responsibilities, and FTE percentage to be charged to the grant. In addition, for the Contractual line item, list each of the planned contracts and the amount of the contract. For each budget line item that includes funds or in-kind contributions from a source other than the requested grant funds, identify the source, the amount, and in-kind contributions, including any restrictions that may apply to these funds.

Costs associated with the development of curriculum and other one-time costs should be noted separately in order for reviewers to identify costs associated with development and start-up as well as on-going participant costs.

In addition, the budget shall provide sufficient funds for approximately four persons' trips to meetings in Washington, DC and other locations.

2. Technical Proposal

Part II, the technical proposal shall demonstrate the offeror's capabilities in accordance with the Statement of Work in Part IV of this solicitation, and following the outline of the Rating Criteria in Part V, a grant application shall be limited to twenty (20) double-spaced, single-side, 8.5-inch x 11-inch pages with 1-inch margins. Attachments shall not exceed ten (10) pages. Text type shall be 11 point or larger. Each application must include the Checklist provided as Appendix C, a Time line outlining project activities provided as Appendix D, and an Executive Summary not to exceed two (2) pages. No cost data or reference to price shall be included in the technical proposal.

Part IV. Statement of Work

A. Background

Each grant application is required to fully address items A thru H of this Part as they relate to the rating criteria in Part V.

Information required under A and B below shall be provided separately for each labor market area where dislocated workers will be served. To the extent that the project design differs for different geographic areas, information required under section C below shall be provided for each geographic area.

A. Target Population

Describe the characteristics of the proposed target population for the project, e.g., educational level, previous occupation, age range, likely transferrable skills, length of unemployment, and language limitations. Describe the size and needs of the target population in the local area as they relate to the services available to the grant. Provide documentation showing there is a significant number of dislocated workers with the target population's characteristics in the project area(s).

If the project seeks to serve under-represented subgroups such as minority groups, women, older workers (50 years of age and older), disabled individuals, within a particular occupation and the selected subgroup has unique characteristics or needs, such characteristics or needs should be identified. Substantive and timely documentation of the subgroup's under-representation must be included.

Indicate how the number of workers to be enrolled was determined. Sufficient documentation should be provided to show that workers with appropriate characteristics to meet the purposes of this grant are available in sufficient numbers to meet the recruitment goals of the grant recognizing that not all workers with appropriate characteristics will choose to participate.

B. Available Jobs

Describe the jobs that will be available and targeted for placement to project participants upon completion of training and placement services including the strategy(ies) for identifying job openings that appear appropriate to the training planned and meet the target wage-at-placement goals established in the proposal. Include information about the number and type of jobs, wage information and the specific set of skills, knowledge or duties (industry-sponsored standards of certifications). Provide documentation (footnote sources) that a shortage of qualified workers exists in the local area to fill positions in the targeted occupations in the absence of the proposed project. Anecdotal data should not be used. Information from the Bureau of Labor Statistics (BLS) available through a variety of web sites including BLS, O*NET and America's Labor Market Information System (ALMIS), should be considered as a key source of documentation. In addition, State Occupational Information Coordinating Committee (SOICC) and JTPA Substate Grantee local job training plans may also be considered. Other sources from the private sector such as Chamber of Commerce, local Technology Council surveys, as well as university studies, are also acceptable. Data must relate to local employment shortages. Substantive linkages with specific employers who are experiencing skill shortages among their present workforce and/or the demand for additional employees with skills in documented occupational shortages must be provided. Letters from employers who have made a commitment to the demonstration project are the most appropriate form of documentation.

If some placements will be made with employers who have not been identified at the time of application, describe the job development and placement strategy to be used to assure placement of demonstration participants.

C. Project Design

(1) Purpose. Describe the specific purpose or purposes of the proposed project.

(2) Service Plan. Describe the services to be provided from the time of selection of participants through placement of those participants in jobs. Describe any services to be provided subsequent to job placement. The descriptions shall provide a clear understanding of the services and support that will be necessary for participants to be placed successfully in jobs and to retain those jobs, including services not funded under the grant, and ways to address participants' financial needs during periods of training. Grant-funded activities should, at a minimum, include recruitment, eligibility determination, assessment, retraining, job placement, and supportive services.

(a) Outreach and recruitment. Describe how eligible dislocated workers will be identified and recruited for participation in the project. Recruitment efforts may address public service communications and announcements, use of media, coordination with the JTPA Service Delivery Area or Substate Grantee, use of community-based organizations and other service groups. Describe the applicant's experience in reaching dislocated workers, especially the targeted population. It is highly recommended that non-JTPA applicants partner with the appropriate JTPA Title III Substate Grantee(s) or local One-Stop Career Center System to plan and implement effective outreach and recruitment strategies.

(b) Eligibility determination. Describe the process to be used in determining the JTPA Title III eligibility of potential participants in the project. It is highly recommended that non-JTPA applicants partner with the appropriate JTPA Title III substate grantee(s)or local One-Stop Career Center System to carry out eligibility determination.

(c) Selection criteria. Describe the criteria and process to be used in selecting those individuals to be served by the project from among the total number of eligible persons recruited for the project. Explain how the selection criteria relate to the specific purpose of the proposed project. Identify any assessment tools that will be used as part of the selection process.

(d) Training Services. Describe the training to be provided-classroom, experiential, on-the-job, internships, etc. Include the length (days and hours) and schedule, any prerequisite courses, and customization to account for transferable skills, previous education (note whether the training requires new and higher educational levels than previous skill training in the same industry), and particular circumstances of the target population and the skill needs of the hiring employer(s). Include information to demonstrate that any proposed training provider is qualified to deliver training that meets appropriate employment standards, and any applicable certification or licensing requirement. Past performance, qualifications of instructors, accreditation of curricula, and similar matters should be addressed, if appropriate. Address the costs of proposed training and other services relative to the costs of similar training and services including courses provided by both public and private providers in the local area. If the training is be customized to account for individual differences in skills levels of participants or employer hiring needs, describe how these considerations will be taken into account in the delivery of the training. The planned training must be supported by the information provided regarding skill shortages and demand for jobs using such skills.

(e) Job Placement. Describe the role of the employer linkages previously addressed in assuring the availability of jobs for participants completing training. If an Employer Advisory Committee is the primary employer linkage, the members of the committee should be listed and the type of expertise they bring to the committee noted. Provide a discussion of the role(s) of the advisory committee and its projected meeting frequency. A neutral chair (someone other than the grantee) should direct the advisory committee. Describe any additional job seeking skills training or assistance provided to participants completing training.

(f) Post placement services. Describe any post placement services to be provided and explain their value to the achievement of the project's purpose and planned outcomes.

(g) Supportive services. Describe those supportive services determined to be appropriate to the target population's needs. Describe policies and procedures to ensure that supportive services are provided only when they are necessary to enable an individual who is eligible for training but cannot afford to pay for such supportive services, to participate in the training program. Indicate how the participants' financial needs during the period of training will be addressed.

(h) Relocation. Describe the limitations and eligibility criteria for relocation assistance, if such assistance is included in the proposal.

(3) Participant flow. Provide a flowchart noting length of time for various activities (such as one day for assessment, etc.) to illustrate how the project will ensure access to necessary and appropriate reemployment and retraining services. Show the sequence of services and the criteria to be used to determine the appropriateness of specific services for particular participants. Note where service choice options will be available to participants. Indicate the average length of participation from eligibility determination and enrollment in the demonstration project to placement in an unsubsidized job.

(4) Relationship to prior experience. Discuss how the applicant's prior experience in working with dislocated individuals affects or influences the design of the proposed project. Note especially lessons learned or positive experiences that will be replicated.

D. Planned Outcomes

A description of the project outcomes and of the specific measures, and planned achievement levels, that will be used to determine the success of the project. These outcomes and measures must include, but are not limited to:

(1) The number of participants projected: to be enrolled in services, to successfully complete services through the project, and to be placed into new jobs (a minimum of 80 percent entered-employment rate is required); to retain their jobs after specified periods of time; to learn new skills which will assist them in retaining or upgrading their current positions or in moving to a new job; to be “placed” into new, enhanced jobs with their current employers, or jobs in another occupational class with their current employers, or another occupation.

(2) Measurable effects of the services provided to project participants as indicated by gains in individuals' skills, competencies, or other outcomes;

(3) Wages of participants prior to, at placement, and 90 days after placement: (a) for dislocated worker participants: a minimum of 90 percent wage replacement rate is required for at least 75 percent of the participants and an average 90 percent wage replacement for the overall demonstration project is required; (b) for incumbent worker participants: a minimum of 100 percent wage retention is required for all participants successfully completing training and meeting the competencies/skills levels specified by the employer prior to the training.

(4) As part of the targeted outcome for wage after training, each project should benchmark the average weekly wage in the relevant sector or industry in the labor market in which each project will operate. For projects serving dislocated workers, as part of the targeted outcome for wage at placement, each project should benchmark at least two key wage averages for the labor market in which each project will operate. Suggested benchmarks might include:

(a) The average weekly wage in the relevant sector; or the average weekly wage for technical and skilled trade jobs; and (b) the average wage at placement for the JTPA Title III, dislocated worker program operated by the local Substate Grantee. Provide an explanation of the particular benchmarks chosen for the project. For incumbent workers, indicate the present wage level of the workers to be trained, their projected wage after training, and discuss how these wage levels compare with the appropriate benchmark wage for the local labor market area.

(5) For each project serving dislocated workers, at least 80 percent of the individuals placed shall be placed at a wage that meets or exceeds (a) the average benchmarked wage in the labor market area, or (b) the average wage at placement for the last program year completed (currently 1998) for the JTPA Title III dislocated worker program operated by the local Substate Grantee in the targeted labor market, whichever is greater. Wages for labor markets may be obtained from the Covered Wages and Employment Program administered by each State's Employment Service.

(6) Customer satisfaction of participants with the project services at critical points in the service delivery process as well as upon placement, and employer satisfaction with the skills and preparation of the participants placed with their organization; participant and employer satisfaction with project services and with the participants' skill level and work, should be measured not only at the end of the project but also at critical points identified by the applicant during the progress of the demonstration's implementation in order to allow for service strategy correction as required.

(7) Planned average cost per placement (amount of the grant request divided by the number of program-related placements or continued placements); and

(8) Other additional measurable, performance-based outcomes that are relevant to the project and which may be readily assessed during the period of performance of the project, such as cost effectiveness of services and comparison with other available service strategies. Where possible, it would also be useful to look at production improvement and other measures the employer uses regarding efficiency, product quality and output. [Note: An explanation of how such additional measures are relevant to the purpose of the demonstration program shall be included in the application.]

E. Collaboration

Describe the nature and extent of collaboration and working relationships between the applicant and other workforce development partners in the design and implementation of the proposed project. Include services to be provided through resources other than grant funds under this demonstration. Provide documentation that the collaboration described can reasonably be expected to occur. Signed letters of agreement and/or the charter of a formally established advisory council are considered the strongest evidence, while letters of support are considered weaker evidence.

Describe the number and types of employers to be directly involved in implementation of the demonstration through activities as participation on an advisory council, provision of input to curriculum development and design, training provider, internship supervision, participation in establishment of local skill standards, etc. Describe activities, presently in place or to be undertaken to link activities to program interventions under this grant to employers, industry, or curriculum/learning centers currently designing and developing occupational/job skill standards and certifications. Collaboration should focus on linking employers involved in grant activities with any employer, industry, or trade and worker association that has already developed or is developing skill standards certifications. Employer linkages must be specifically addressed in the application and documentation provided of the specific role(s) the employer(s) will play in implementation of the grant provided.

Skill standards play an important role in ensuring participants are meeting the accepted standards of industries. Grant applicants may show how skills standards and O*NET are used to help dislocated/incumbent workers acquire training and new jobs. Skill standards can mean National Skill Standards (NSS) developed under the auspices of the NSS Board or other skill standards recognized by employers as valid requirements for jobs. O*NET refers to the Occupational Information Network that replaces the Dictionary of Occupational Titles and defines all jobs in terms of worker requirements, occupational requirements, experience requirements, worker characteristics, occupational characteristics and occupation-specific requirements. The applicant may request a brochure explaining O*NET at the following e-mail address: rrann@doleta.gov. Skill standards and O*NET are useful for structuring training curriculum, assessing dislocated/incumbent workers' skills and interests, and defining career paths from one occupation to another. Their application in the proposed project's training design would indicate close links to employers and an understanding of the demands faced by workers in high performance workplaces.

Applicants are encouraged to commit matching funds to the implementation and management of their proposed programs. Matches may be in the form of cash or in-kind contributions. These may include but are not limited to such contributions as the development of training modules; payment of tuition costs for training; support for child care or transportation; and provision of staff time at no cost to the project. Sources of matching funds may include but are not limited to employers, employer associations, labor organizations, and training institutions. With reference to the sources and amounts of project funds and in-kind contributions identified in the financial proposal as being other than those requested under the grant applied for, describe the basis for valuation of those funds and contributions.

Note: National Reserve Account grants for specific plant closures and layoffs may not be used to match demonstration grant funds, these grants provide sufficient funds to meet the needs of any worker in the targeted area. However, NRA grant funds may be used to purchase 50 percent or less of the total training slots in training developed with demonstration grant funds.

Documentation of consultation on the project concept from applicable labor organizations must be submitted when 20 percent or more of the targeted population is represented by one or more labor organizations, or where the training is for jobs where a labor organization represents a substantial number of workers engaged in similar work. Where the union has been involved in bargaining relative to the introduction of either technology or the addition of new skilled workers at the workplace, provide information as to any role the union played in the design and delivery of the training as well as any impact on the workers with respect to the growth or shrinkage in the number of jobs, the selection of workers for retraining.

F. Innovation

Describe key innovations in the proposed project, including (but not limited to) innovations in concept to be tested, type of participant to be served, services provided, delivery of services, training methods, job development, or job retention strategies. These innovations should be unique to the ongoing knowledge base of service delivery and training presently available to the workforce system. Explain the impact of such innovation on project costs to substantiate the budget items designated as development and start-up costs.

G. Previous Experience

If the applicant has had a demonstration grant with the Department of Labor, Education or HHS within the last three years, list the title of the grant, the amount of the grant, the funding agency, a Federal contact phone number and a brief summary of purpose of the grant. For those grants funded by the Department of Labor, explain how this grant application differs from the previous grant's activity. Explain how the proposed project is similar to and differs from the applicant's prior and current operations.

H. Project Management

(1) Structure. Describe the management structure for the project, including a staffing plan that describes each position and the percentage of its time to be assigned to this project and assures that sufficient staff are available to implement the project in a timely and effective manner. Provide an organizational chart showing the relationship among project management and operational components, including those at multiple sites of the project, in the overall structure of the applicant's organization. Note: It is highly recommended for applicants requesting $500,000 or more that a full-time project director be available to ensure timely and effective implementation of the project.

(2) Program Integrity. Describe the mechanisms to ensure financial accountability for grant funds and performance accountability relative to job placements, in accordance with standards for financial management and participant data systems in 29 CFR part 95 or 97, as appropriate, and 20 CFR 627.425. Explain the basis for the applicant's administrative authority over the management and operational components. Describe how information will be collected to determine the achievement of project outcomes as indicated in section D of this part; and report on participants, outcomes, and expenditures.

(3) Monitoring and Reporting. Describe how the project will keep records of its activities, as required in 29 CFR parts 95 and 97 and 20 CFR 631.63 as appropriate, which will include information such as the following:

(a) Benchmarks. Provide a Timeline of implementation and projected performance benchmarks covering the period of performance of the project (Appendix E). Include a monthly schedule of planned implementation activities and start-up events (such as curriculum development, selection of advisory council, advisory council meetings, hiring of staff, and completion of lease arrangement for space, development of an internal program progress reporting system, design of customer satisfaction measures, initiation of customer satisfaction activities for participants/for employers); quarterly projections of planned participant activity, showing cumulative numbers of enrollments, participation in training and other services, placements, and terminations; and quarterly cumulative expenditure projections. The quarterly performance projection data may be shown in the same implementation benchmark timeline or separately.

(b) Participant progress. Describe how a participant's continuing participation in the project will be monitored, including determination of successful progress in training activities.

(c) Project performance. Identify the information on project performance that will be collected on a short-term basis (e.g., weekly or monthly) by program managers for internal project management to determine whether the project is accomplishing its objectives as planned and whether project adjustments are necessary. Describe the process and procedures to be used to obtain feedback from participants, employers, and any other appropriate parties on the responsiveness and effectiveness of the services provided. The description shall identify the types of information to be obtained, the methods and frequency of data collection, and ways in which the information will be used in implementing and managing the project. Describe the process for effecting needed corrective action that may be identified through this feedback. Grantees may employ focus groups and surveys, in addition to other methods, to collect feedback information. Technical assistance in the design and implementation of customer satisfaction data collection and analysis may be provided by DOL.

(d) Impact of Collaboration and Innovation. Describe the process for assessing and reporting on the impact of collaboration and innovation in the project with respect to the purpose and goals of the demonstration program and the specific purpose and goals of the project.

(4) Grievance Procedure. If the applicant is a JTPA administrative entity or service provider, assure that a grievance procedure is presently in place. Otherwise, describe the grievance procedure to be used for grievances and complaints from participants, contractors, and other interested parties, consistent with the requirements at Section 144 of JTPA and 20 CFR 631.64(b) and (c).

(5) Previous Project Management Experience. Provide an objective demonstration of the grant applicant's ability to manage the project, ensure the integrity of the grant funds, and deliver the proposed performance. Indicate the grant applicant's past experience in the management of grant-funded projects similar to that being proposed, particularly regarding oversight and operating functions including financial management.

(6) Sustainability and Replicability. Provide assurances that if the project is successful, the demonstration grantee and partners will continue to improve and develop the demonstrated approach. Describe the aspects of the demonstration approach that will allow other workforce development entities to replicate the proposed project. Note: The cost per participant will be a consideration in any replication consideration by other entities. Discuss the potential applicability of the project, or aspects of the project (such as new assessment tools, etc.), to other dislocated worker programs.

V. Rating Criteria & Award Selection Process

A careful evaluation of applications will be made by a technical review panel who will evaluate the applications against the criteria listed in the SGA. The panel results are advisory in nature and not binding on the Grant Officer. The Government may elect to award grants with or without discussions with the offerors. In situations without discussions, an award will be based on the offeror's signature on the Standard Form SF 424, which constitutes a binding offer. The Government reserves the right to make awards under this section of the solicitation to ensure geographical balance. The Grant Officer will make final award decisions based upon what is most advantageous to the Federal Government in terms of technical quality, responsiveness to this Solicitation (including goals of the Department to be accomplished by this solicitation) and other factors.

Panelists shall evaluate proposals for acceptability based upon overall responsiveness in accordance with the factors below.

A. Target Population (10 Points)

The description of the characteristics of the target group to be served is clear and meaningful, and sufficiently detailed to determine the potential participants' service need. Documentation is provided showing that a significant number of eligible dislocated workers who possess these characteristics are available for participation within the project area. Sufficient information is provided to explain how the number of dislocated workers to be enrolled in the project was determined. The recruitment plan supports the number of planned enrollments. The target population is appropriate for the specific purpose of the proposed project. The project identifies under represented groups to be trained in the targeted occupation(s).

B. Targeted Jobs (15 Points)

The jobs are clearly available to workers who have received appropriate training and preparation given:

(1) The match between the documented skill shortage and the training planned;

(2) The documentation provided specifying that training meets or is developed based on industry driven skill standards or certifications;

(3) The substantial level of involvement of employers in making known their needs regarding requisite worker skills necessary for hiring program completers;

(4) The documentation and reliability of job availability is based upon recognized, reliable and timely sources of information;

(5) Where appropriate, the role of workers or representatives of a labor organization representing the workers in the design and/or delivery of training in enhancing worker skills during workplace change

C. Service Plan (20 Points)

The scope of services to be provided is consistent with the demonstration program and project purposes and goals. The scope of services to be provided is adequate to meet the needs of the target population given:

(1) Their characteristics and circumstances;

(2) The complexity of the training and the skills to be developed relative to their characteristics and previous job experience;

(3) The jobs in which they are to be placed relative to targeted wage at placement goals;

(4) The length of program participation planned prior to placement.

D. Costs (20 Points)

Proposed costs are reasonable in relation to the characteristics and circumstances of the target group, the services to be provided, planned outcomes, the management plan, and coordination/collaboration with other entities, including One-Stop/Career Center organizations. The cost information provided regarding similar training available through other training providers is within an acceptable range or sufficient rationale is provided for the cost differences. The impact of development/start-up and innovation on costs is explained clearly in the proposal and is reasonable.

Identification is provided of the specific sources and amounts of other funds which will be used, in addition to funds provided through this grant, to implement the project. The application must include information on any non-JTPA resources committed to this project, including employer funds, grants, and other forms of assistance, public and private. Value and level of external resources being contributed, including employer contributions, to achieve program goals will be taken into consideration in the rating process.

The degree to which other interested partners in the workforce development system invest resources to test the concepts put forth in the application.

E. Management (13 Points)

The project management plan is designed to track project performance in such a way as to assure that benchmarks are achieved in a timely manner, issues affecting performance such as employer involvement, collaboration partners commitments, etc. are quickly identified and addressed, and planned outcomes will be achieved in a cost effective manner.

The applicant (as a part of a collaborative approach) has experience working with the relevant training. The management structure and management plan for the proposed project will ensure the integrity of the funds requested. The project work plan demonstrates the applicant's ability to effectively track project progress with respect to planned expenditures. Sufficient procedures are in place to use the information obtained by the project operator(s) to take corrective action if indicated. In addition, review by appropriate labor organizations, where applicable, is documented.

The proposal includes a method of assessing customer feedback for both participants and employers involved, and establishes a mechanism to take into account the results of such feedback as part of a continuous system of management and operation of the project.

F. Collaboration (12 Points)

The proposal includes evidence of direct participation by JTPA SubState Grantees and One-Stop/Career Center entities (where present) in the planning and management of this grant. Evidence of participation of employers whose positions are targeted under the grant is present. Evidence of coordination with other programs and entities for project design or provision of services is also provided. Evidence is presented that ensures cooperation of coordinating entities, as applicable, for the life of the proposed project. The project includes a reasonable method of assessing and reporting on the impact of such coordination, relative to the demonstration purpose and goals and the specific purpose and goals of the proposed project.

G. Innovation (5 Points)

The proposal demonstrates innovation in the concept(s) to be tested, the project's design, and/or the services to be provided. “Innovation” refers to the degree to which such concept(s), design and/or services are not currently found in dislocated worker programs. The project includes a reasonable method of assessing and reporting on the impact of such innovation, relative to the demonstration program and project purposes and goals.

H. Sustainability and Replicability (5 Points)

The proposal provides evidence that, if successful, activities supported by the demonstration grant will be continued after the expiration date of the grant, using JTPA Title III formula-allotted funds or other public or private resources. The likelihood that the approach may be applicable to a broad range of dislocated worker programs across the country. The proposal provides evidence that the approach and training strategy(ies) used can be replicated by other workforce development partners to address skill shortages in their local area.

Grant applications will be evaluated for the reasonableness of proposed costs, considering the proposed target group, targeted jobs, services, outcomes, management plan, and coordination with other entities.

Applicants are advised that discussions may be necessary in order to clarify any inconsistency or ambiguity in their applications. The final decision on awards will be based on what is most advantageous to the Federal Government as determined by the ETA Grant Officer. The Government may elect to award grant(s) without discussion with the applicant(s). The applicant's signature on the Application for Federal Assistance SF424 constitutes a binding offer.

Part VI. Monitoring, Reporting and Evaluation

A. Monitoring

The Department shall be responsible for ensuring effective implementation of each competitive grant project in accordance with the Act, the Regulations, the provisions of this announcement and the negotiated grant agreement. Applicants should assume that at least one on-site project review will be conducted by Department staff, or their designees. This review will focus on the project's performance in meeting the grant's programmatic goals and participant outcomes, complying with the targeting requirements regarding participants who are served, expenditure of grant funds on allowable activities, collaboration with other organizations as required, and methods for assessment of the responsiveness and effectiveness of the services being provided. Grants may be subject to their additional reviews at the discretion of the Department.

B. Reporting

DOL will arrange for or provide technical assistance to grantees in establishing appropriate reporting and data collection methods and processes taking into account the applicant's project management plan. An effort will be made to accommodate and provide assistance to grantees to be able to complete all reporting electronically. Applicants selected as grantees will be required to provide the following reports:

1. Monthly progress reports, during initial start-up and implementation of the project, and Quarterly Progress Reports.

2. Standard Form 269, Financial Status Report Form, on a quarterly basis.

3. Final Project Report including an assessment of project performance. This report will be submitted in hard copy and on electronic disk utilizing a format and instructions to be provided by the Department. A draft of the final report is due to the Department 45 days prior to the termination of the grant.

C. Evaluation

DOL will arrange for or conduct an independent evaluation of the outcomes, impacts, and benefits of the demonstration projects. Grantees must agree to make available records on participants and employers as well as project financial and management data and to provide access to personnel, as specified by the evaluator(s) under the direction of the Department.

Signed at Washington, DC, this 24th day of March, 2000.
Laura A. Cesario,
Grant Officer, Division of Federal Assistance.

Appendices

1. Appendix A—Application for Federal Assistance SF 424

2. Appendix B—Budget Information

3. Appendix C—Checklist

4. Appendix D—Implementation Benchmarks and Time Line

BILLING CODE 4510-30-P

[FR Doc. 00-7746 Filed 3-28-00; 8:45 am]

BILLING CODE 4510-30-C